DEPARTMENT OF AGRICULTURE

7 CFR Part 2812

RIN 0599-AA06

Office of Procurement and Property Management; Department of Agriculture Priorities and Administrative Guidelines for Donation of Excess Research Equipment

AGENCY: Office of Procurement and Property Management, USDA.

ACTION: Final rule.

SUMMARY: The Office of Procurement and Property Management of the Department of Agriculture (USDA) amends its procedures for the donation of excess research equipment for technical and scientific education and research activities to educational institutions and nonprofit organizations under section 11(i) of the Stevenson-Wydler Technology Innovation Act of 1980 Act (15 U.S.C. 3710(i)). This amendment expands the list of entities eligible to receive such equipment, establishes a priority list for eligible entities seeking transfer of such equipment, and clarifies administrative rules regarding equipment transfer.

DATES: This final rule is effective December 21, 2000.

FOR FURTHER INFORMATION CONTACT: Kathy Fay on 202-720-9779.

SUPPLEMENTARY INFORMATION:

I. Background

II. Procedural Requirements

A. Executive Order Number 12866.

B. Regulatory Flexibility Act.

C. Paperwork Reduction Act.

III. Electronic Access Addresses

I. Background

USDA regulations for the donation of excess research equipment for technical and scientific educational research activities under section 11(i) of the Stevenson-Wydler Technology Innovation Act of 1980 Act (15 U.S.C. 3710(i)) were promulgated at 60 FR 34456 on July 3, 1995. USDA determined that the eligibility of organizations to receive excess research equipment under this part is not clear.

The President signed Executive Order (EO) 12999 on April 17, 1996, requiring Federal agencies, when donating educationally useful Federal research equipment under section 11(i) of the Stevenson-Wydler Technology Innovation Act of 1980 and other laws, to give the highest preference to schools (including pre-kindergarten through twelfth grade) and nonprofit organizations (including community-based educational organizations) with particular preference to such schools and nonprofit organizations located in Federal enterprise communities and empowerment zones designated pursuant to the Omnibus Reconciliation Act of 1993, Public Law 103-66. USDA is taking action in this rule making to implement EO 12999.

Further, consistent with the EO 12999 and other authorities available to USDA for transfer of excess personal property (such as that implemented in 7 CFR part 3200), USDA desires to establish a preference list for those eligible entities seeking to receive property donated under this part.

The substance of this rule was published on July 29, 1999, as a proposed rule. No comments were received. The only change from the proposed rule is the omission of a current requirement (7 CFR 2812.4(e)) that recipients provide a written justification for why the property is needed. Since this change is de minus, and actually reduces administrative burdens on the public, the agency has determined to proceed with a final rule without further comment.

II. Procedural Requirements

A. Executive Order Number 12866

This rule was reviewed under EO 12866, and it has been determined that it is not a significant regulatory action because it will not have an annual effect on the economy of $100 million or more or adversely and materially affect a sector of the economy, productivity, competition, jobs, the environment, public health or safety, or State, local or tribal governments or communities. This rule will not create any serious inconsistencies or otherwise interfere with any actions taken or planned by another agency. It will not materially alter the budgetary impact of entitlements, grants, user fees, or loan programs, or the rights and obligations of recipients thereof.

B. Regulatory Flexibility Act

USDA certifies that this rule will not have a significant impact on a substantial number of small entities as defined in the Regulatory Flexibility act, 5 U.S.C. 601, et seq., for the reason that this regulation imposes no new requirements on small entities.

C. Paperwork Reduction

The forms necessary to implement these procedures have been cleared by the Office of Management and Budget (OMB) in accordance with the Paperwork Reduction Act, 44 U.S.C. 2500, et seq.

III. Electronic Access Addresses

You may send electronic mail (E-mail) to kathy.fay@usda.gov or contact us via fax at (202) 720-3339.

List of Subjects in 7 CFR Part 2812

Government property management, excess Government property.

For the reasons set forth in the preamble, 7 CFR part 2812 would be amended as set forth below:

PART 2812—DEPARTMENT OF AGRICULTURE GUIDELINES FOR THE DONATION OF EXCESS RESEARCH EQUIPMENT UNDER 15 U.S.C. 3710(i)

1. The authority citation for part 2812 is revised to read as follows:

Authority: 5 U.S.C. 301; E.O. 12999, 61 FR 17227, 3 CFR, 1997 Comp., p. 180.

2. Amend § 2812.3 by removing paragraph (b), redesignate paragraphs (c), (d), and (e) as (e), (h), and (i), respectively, and add new paragraphs (b), (c), (d), (f) and (g) to read as follows:

§ 2812.3 Definitions.

* * * * *

(b) Community-based educational organization means nonprofit organizations that are engaged in collaborative projects with pre-kindergarten through twelfth grade educational institutions or that have education as their primary focus. Such organizations shall qualify as nonprofit educational institutions for purposes of section 203(j) of the Federal Property and Administrative Services Act of 1949 (40 U.S.C. 484(j)).

(c) Educational institution means a public or private, non-profit educational institution, encompassing pre-kindergarten through twelfth grade and two- and four-year institutions of higher education, as well as public school districts.

(d) Educationally useful Federal equipment means computers and related peripheral tools (e.g., printers, modems, routers, and servers), including telecommunications and research equipment, that are appropriate for use in pre-kindergarten, elementary, middle, or secondary school education. It shall also include computer software, where the transfer of licenses is permitted.

(f) Federal empowerment zone or enterprise community (EZ/EC) means a rural area designated by the Secretary of Agriculture under 7 CFR part 25.

(g) Non-profit organization means any corporation, trust association, cooperative, or other organization which:

(1) Is operated primarily for scientific, educational, service, charitable, or similar purposes in the public interest;

(2) Is not organized primarily for profit; and

(3) Uses its net proceeds to maintain, improve, or expand its operations. For the purposes of this part, “non-profit organizations” may include utilities affiliated with institutions of higher education, or with state and local governments and federally recognized Indian tribes.

* * * * *

3-4. Amend § 2812.4 by removing and reserving paragraph (a), and revise paragraphs (c), (d) and (e) to read as follows:

§ 2812.4 Procedures.

(a) [Reserved]

* * * * *

(c) After USDA screening has been accomplished, excess personal property targeted for donation under this part will be made available on a first-come, first-served basis. If there are competing requests, donations will be made to eligible recipients in the following priority order:

(1) Educationally useful Federal equipment for pre-kindergarten through twelfth grade educational institutions and community-based educational organizations in rural EZ/EC communities;

(2) Educationally useful Federal equipment for pre-kindergarten through twelfth grade educational institutions and community-based educational organizations not in rural EZ/EC areas;

(3) All other eligible organizations.

(d) Upon reporting property for excess screening, if the pertinent USDA agency has an eligible organization in mind for donation under this part, it shall enter “P.L. 102-245” in the note field. The property will remain in the excess system approximately 30 days, and if no USDA agency or cooperator requests it during the excess cycle, the Departmental Excess Personal Property Coordinator will send the agency a copy of the excess report stamped, “DONATION AUTHORITY TO THE HOLDING AGENCY IN ACCORDANCE WITH P.L. 102-245.” The holding USDA agency may then donate the excess property to the eligible organization.

(e) Donations under this Part will be accomplished by preparing a Standard Form (SF) 122, “Transfer Order-Excess Personal Property”.

* * * * *

5. Remove Appendix A to part 2812.

Done at Washington, D.C., this 30th day of October, 2000.
W.R. Ashworth,
Director, Office of Procurement and Property Management.

[FR Doc. 00-29783 Filed 11-20-00; 8:45 am]

BILLING CODE 3410-TX-M